INTERNATIONAL TRADE COMMISSION

[USITC SE-01-027]

Sunshine Act Meeting

AGENCY HOLDING THE MEETING: United States International Trade Commission.

TIME AND DATE: July 13, 2001 at 11:00 a.m.

PLACE: Room 101, 500 E Street SW., Washington, DC 20436, Telephone: (202) 205-2000.

STATUS: Open to the public.

MATTERS TO BE CONSIDERED:

1. Agenda for future meeting: none.

2. Minutes.

3. Ratification List.

4. Inv. Nos. 731-TA-873-874 and 877-879 (Final) (Certain Steel Concrete Reinforcing Bars from Belarus, China, Korea, Latvia, and Moldova)—briefing and vote. (The Commission is currently scheduled to transmit its determination and Commissioners' opinions to the Secretary of Commerce on July 23, 2001.)

5. Inv. Nos. 701-TA-416 and 731-TA-948 (Preliminary) (Individually Quick-Frozen Red Raspberries from Chile)—briefing and vote. (The Commission is currently scheduled to transmit its determination to the Secretary of Commerce on July 16, 2001; Commissioners' opinions are currently scheduled to be transmitted to the Secretary of Commerce on July 23, 2001.)

6. Outstanding action jackets: none.

In accordance with Commission policy, subject matter listed above, not disposed of at the scheduled meeting, may be carried over to the agenda of the following meeting.

Issued: July 5, 2001.
Donna R. Koehnke,
Secretary.

[FR Doc. 01-17247 Filed 7-5-01; 3:14 pm]

BILLING CODE 7020-02-P